DEPARTMENT OF COMMERCE

National Oceanic and Atmospheric Administration

[I.D. 100405B]

Endangered and Threatened Species; Take of Anadromous Fish

AGENCY: National Marine Fisheries Service (NMFS), National Oceanic and Atmospheric Administration (NOAA), Commerce.

ACTION: Application and requests for modification of scientific research permits.

SUMMARY: Notice is hereby given that NMFS has received one scientific research permit application and 18 modification requests relating to Pacific salmon. The proposed research is intended to increase knowledge of species listed under the Endangered Species Act (ESA) and to help guide management and conservation efforts.

DATES: Comments or requests for a public hearing on the applications must be received at the appropriate address or fax number (see ADDRESSES) no later than 5 p.m. Pacific daylight-saving time on November 14, 2005.

ADDRESSES: Written comments on the applications should be sent to Protected Resources Division, NMFS, 1201 NE Lloyd Blvd., Suite 1100, Portland, OR 97232-1274. Comments may also be sent via fax to 503-230-5441 or by e-mail to resapps.nwr@NOAA.gov.

FOR FURTHER INFORMATION CONTACT: Garth Griffin, Portland, OR (ph.: 503-231-2005, Fax: 503-230-5441, e-mail: Garth.Griffin@noaa.gov). Permit application instructions are available at http://www.nwr.noaa.go.

SUPPLEMENTARY INFORMATION:

Species Covered in This Notice

The following listed species (evolutionarily significant units) are covered in this notice:

Lower Columbia River (LCR) coho salmon (Oncorhynchus kisutch)

LCR steelhead (O. mykiss)

LCR Chinook salmon (O. tshawytscha).

Authority

Scientific research permits are issued in accordance with section 10(a)(1)(A) of the ESA (16 U.S.C. 1531 et. seq) and regulations governing listed fish and wildlife permits (50 CFR 222-226). NMFS issues permits based on findings that such permits: (1) are applied for in good faith; (2) if granted and exercised, would not operate to the disadvantage of the listed species that are the subject of the permit; and (3) are consistent with the purposes and policy of section 2 of the ESA. The authority to take listed species is subject to conditions set forth in the permits.

Anyone requesting a hearing on an application listed in this notice should set out the specific reasons why a hearing on that application would be appropriate (see ADDRESSES). Such hearings are held at the discretion of the Assistant Administrator for Fisheries, NMFS.

Applications Received

Permit 1550

The U.S. Fish and Wildlife Service (FWS) is asking for a 5-year research permit to take LCR coho salmon and LCR Chinook salmon in Abernathy Creek, Washington a tributary to the Lower Columbia River. The research is designed to determine the natural reproductive success and mean relative fitness of hatchery-origin and natural-origin steelhead and assess the overall demographic effects of hatchery fish supplementation in Abernathy Creek relative to two adjacent control streams, Germany and Mill Creeks. The study will benefit listed coho salmon by providing information on abundance and distribution that could be used over the long-term to protect important habitat. The FWS proposes to capture using backpack electrofishing equipment handle, and release listed salmonids. The FWS does not intend to kill any fish being captured but some may die as an unintentional result of the research activities.

Modification Requests Received

For permits 1252, 1290, 1318, 1322, 1338, 1379, 1386, 1410, 1421, 1427, 1461, 1478, 1479, 1484, 1487, 1519, and 1525, the activities would only be modified to include take of LCR coho salmon; no other changes are proposed. Further information on the actions covered by these permits may be obtained from previous notices and on the web site http://www.nwr.noaa.gov/1salmon/salmesa/permit.htm.

Permit 1330 currently authorizes the Weyerhaeuser Company to take juvenile LCR steelhead in the Toutle River Basin, Washington. They are asking to modify their permit to add LCR coho salmon take and increase the annual number of LCR steelhead taken in the research. The purpose of the research is to increase understanding of the relationship between aquatic organisms and their habitat, determine how forest management and restoration influence the aquatic ecosystem, and produce data to help develop forest management practices that better protect aquatic resources. The research would benefit listed salmonids by producing data on their natural habitat recovery processes and by identifying the effects that various stressors have on listed species. Weyerhaeuser proposes to observe (during snorkeling surveys), capture (using backpack electrofishing), anesthetize, identify, measure, weigh, and release the fish. Weyerhaeuser does not intend to kill any fish being captured but some may die as an unintentional result of the research activities.

This notice is provided pursuant to section 10(c) of the ESA. NMFS will evaluate the application, associated documents, and comments submitted to determine whether the application meets the requirements of section 10(a) of the ESA and Federal regulations. The final permit decisions will not be made until after the end of the 30-day comment period. NMFS will publish notice of its final action in the Federal Register.

Dated: October 5, 2005.
Angela Somma,
Chief, Endangered Species Division, Office of Protected Resources, National Marine Fisheries Service.

[FR Doc. 05-20453 Filed 10-11-05; 8:45 am]

BILLING CODE 3510-22-S